DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Kirk Sperber, M.D., Mount Sinai School of Medicine: Based on the report of an investigation conducted by the Mount Sinai School of Medicine (MSSM) and additional analysis conducted by the Office of Research Integrity (ORI) in its oversight review, the U.S. Public Health Service (PHS) found that Dr. Kirk Sperber, former Associate Professor, Department of Medicine, Division of Clinical Immunology, MSSM, engaged in scientific misconduct while supported by National Institute of Allergy and Infectious Diseases (NIAID), National Institutes of Health (NIH), grants R01 AI45343 and P01 AI44236, and National Cancer Institute, NIH, grant R29 CA256990.

PHS finds the Respondent engaged in scientific misconduct by falsifying and fabricating data that were included in NIAID, NIH, grant applications R01 AI45343-01A1, R01 AI45343-04A2, and P01 AI44236-05. Respondent's scientific misconduct occurred while he was a faculty member at MSSM. Respondent is no longer employed at MSSM.

Specifically, PHS found that Respondent engaged in scientific misconduct by falsifying and fabricating data in the following publications:

1. In multiple figures reported in Sperber, K., Beuria, P., Singha, N., Gelman, I., Cortes, P., Chen, H., & Kraus, T. “Induction of apoptosis by HIV-1-infected monocytic cells.” Journal of Immunology 170:1566-1578, 2003 (“2003 J. Immunol. paper”) (Retracted in December 2005); by duplicating and reusing panels of FACS data in Figures 1A, 2, 4A, 4B, and 7; by duplicating and reusing lanes of polyacrylamide gels in Figure 3, of Western blot analyses in Figures 5A, 5C, 6C, and 9, and of agarose gels in PCR analyses in Figure 5B; and by duplicating and reusing laser confocal micrographs in Figures 10 and 11. Respondent's claims that Figures 1A, 2, 4A, and 7 were representative of experiments repeated five times and that Figures 3, 4B, 5A, 6C, and 9 were representative of experiments repeated three times constitute additional falsifications. The effect of these misrepresentations was to falsely demonstrate the proapoptotic activity of a protein from a novel cDNA clone isolated from an HIV-infected human macrophage cell line and to falsify its presence in brain and lymphoid tissue from patients with HIV-associated dementia.

2. In Figure 10 reported in Rakoff-Nahoum, S., Chen, H., Kraus, T., George, I., Oei, E., Tyorlin, M., Salik, E., Beuria, P., & Sperber, K. “Regulation of Class II Expression in Monocytic Cells after HIV-1 Infection.” J. Immunol. 167:2331-2342, 2001 (Retracted in November 2006), by duplicating and reusing four confocal micrographs to misrepresent different panels for the Cath D, 43pol and CD-63, 43neve data; for the Cath D, 43gag and Cath D, 43nef data; for the DAMP, 43 nef and M6PR, 43nef data; and for the M6PR, 43gag and the CD-63, 43gag data. Respondent's reported claim that the results were representative of an experiment repeated five times constitutes an additional falsification.

3. In Figures 3B, 4B, and 6B reporting flow cytometry analyses (FACS) in Chen, H., Yip, Y.K., George, I., Tyorkin, M., Salik, E., & Sperber, K. “Chronically HIV-1-Infected Monocytic Cells Induce Apoptosis in Cocultured T Cells.” J. Immunol. 161:4257-4267, 1998 (Retracted in November 2006); by reusing two FACS histograms, each to represent 2 different experiments in Figure 3B; by reusing the same FACS histogram as the negative control for CD-4 cells and for the CD-8 cells in Figure 4B; and by duplications of the top two panels, the middle two panels, and the bottom two panels of data as graded dilutions of different fractions in Figure 6B to falsely show that a soluble factor from 43HIV cells induced apoptosis. Figure 6B was also presented in grant application AI45343-01A1 as Figure 5B. Respondent's reported claims that the results in Figures 3B, 4B, and 6B were each representative of experiments that were repeated three times constitute additional falsifications.

PHS also finds that Respondent engaged in scientific misconduct by falsifying and fabricating the following data in NIAID, NIH, research applications R01 AI45343-04A2 and P01 AI44236-05:

4. The results of Figures 1, 6C, 7, 9, 10 and 11 from the 2003 J. Immunology paper were reported in NIAID, NIH, grant application R01 AI45343-04A2; nearly all of the figures in the paper were falsified, so that the claims in the grant application derived from those figures were also false.

5. Two figures in NIAID, NIH, grant application P01 AI44236-05 contained falsified data: In Figure 1b, panels of confocal microscopy images of intestinal biopsies from four patients were falsified by duplication; and in Figure 3, one panel of PCR data was duplicated and similarly misrepresented as data from the same four biopsy specimens.

Dr. Sperber has entered into a Voluntary Exclusion Agreement in which he neither admitted or denied HHS' findings of scientific misconduct. However, he recognized that if this matter were to proceed to an administrative hearing, there is sufficient evidence upon which an Administrative Law Judge could make findings of scientific misconduct against him. Dr. Sperber agreed not to contest or appeal the jurisdiction of the PHS or HHS findings of scientific misconduct as set forth above and in the MSSM Report. Dr. Sperber has voluntarily agreed, for a period of four (4) years, beginning on September 12, 2008:

(1) To exclude himself from any contracting or subcontracting with any agency of the United States Government and from eligibility or involvement in nonprocurement programs of the United States pursuant to HHS' Implementation (2 CFR Part 376 et seq.) of OMB Guidelines to Agencies on Government wide Debarment and Suspension (2 C.F.R., Part 180); and

(2) To exclude himself from serving in any advisory capacity to PHS, including but not limited to service on any PHS advisory committee, board, and/or peer review committee, or as a consultant or contractor to PHS.

FOR FURTHER INFORMATION CONTACT: Director, Division of Investigative Oversight, Office of Research Integrity, 1101 Wootton Parkway, Suite 750, Rockville, MD 20852, (240) 453-8800.

Chris B. Pascal,
Director, Office of Research Integrity.

[FR Doc. E8-23820 Filed 10-7-08; 8:45 am]

BILLING CODE 4150-31-P